CONSUMER PRODUCT SAFETY COMMISSION

Agency Emergency Processing Under Office of Management and Budget Review; Chronic Hazard Advisory Panel Questionnaire

AGENCY: Consumer Product Safety Commission.

ACTION: Notice.

SUMMARY: The Consumer Product Safety Commission (Commission or CPSC) is announcing that a collection of information has been submitted to the Office of Management and Budget (OMB) for emergency processing under the Paperwork Reduction Act of 1995. The proposed collection of information concerns a questionnaire to panel candidates for selection to a Chronic Hazard Advisory Panel (CHAP) to study the effects of phthalates and phthalate alternatives on children's health.

DATES: Comments on this request for approval of information collection requirements should be submitted by June 26, 2009.

ADDRESSES: Comments on this request for approval of information collection requirements should be captioned “Emergency Request—Chronic Hazard Advisory Panel” and submitted to (1) the Office of Information and Regulatory Affairs, Attn: OMB Desk Officer for CPSC, Office of Management and Budget, Washington, DC 20503; telephone: (202) 395-7340, or by e-mail to Brenda_Aguilar@omb.eop.gov and (2) to the Office of the Secretary by e-mail at cpsc-os@cpsc.gov, or mailed to the Office of the Secretary, Consumer Product Safety Commission, 4330 East West Highway, Bethesda, MD 20814. Comments may also be sent via facsimile at (301) 504-0127.

FOR FURTHER INFORMATION CONTACT: Linda Glatz, Division of Policy and Planning, Office of Information Technology and Technology Services, Consumer Product Safety Commission, 4330 East West Highway, Bethesda, MD 20814; telephone: (301) 504-7671, or by e-mail to lglatz@cpsc.gov.

SUPPLEMENTARY INFORMATION:

A. Proposed Collection of Information

Section 108(b)(2)(A) of the Consumer Product Safety Improvement Act of 2008 (CPSIA) (Pub. L. 110-314) requires the Commission to begin the process of appointing a CHAP pursuant to 15 U.S.C. 2077 to study the effects on children's health of all phthalates and phthalate alternatives as used in children's toys and child care articles. Section 108(b)(2)(B) of the CPSIA specifies what the panel is to examine and requires the panel to complete its examination within 18 months after its appointment. The panel must report to the CPSC no later than 180 days after completing its examination, and, no later than 180 days after receiving the panel's report, the CPSC must promulgate a final rule to determine whether an interim prohibition on three specific phthalates should remain in effect and evaluate the panel's findings and recommendation.

In order to establish the CHAP and execute the mandatory rulemaking within the statutory deadlines imposed under the CPSIA, the CPSC requests emergency processing of the collection of information under section 3507(j) of the PRA (44 U.S.C. 3507(j) and 5 CFR 1320.13). The CPSC will provide a questionnaire to 27 panel candidates to identify potential conflicts of interest. With respect to this collection of information, the CPSC estimates the burden of this collection will be approximately 1 hour. The total estimated burden to all candidates is 27 hours. The annual reporting cost is estimated to be $1,481.76. This estimate is based on the estimated total burden hours for responding to the questionnaire (27 hours) multiplied by an estimated wage (Bureau of Labor Statistics: All workers, good-producing industries, management, professional and related, September 2008) of $54.88 per hour (27 hours × $54.88 per hour = $1,481.76).

B. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: May 20, 2009.
Todd A. Stevenson,
Secretary, Consumer Product Safety Commission.

[FR Doc. E9-12148 Filed 5-26-09; 8:45 am]

BILLING CODE 6355-01-P